EXPORT-IMPORT BANK

[Public Notice: 2019-6010]

Agency Information Collection Activities: Comment Request

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995. The Application for Exporter Short Term Single Buyer Insurance form will be used by entities involved in the export of U.S. goods and services, to provide EXIM with the information necessary to obtain legislatively required assurance of repayment and fulfills other statutory requirements. Export-Import Bank customers will be able to submit this form on paper or electronically.

DATES: Comments must be received on or before June 7, 2019 to be assured of consideration.

ADDRESSES: Comments may be submitted electronically on WWW.REGULATIONS.GOV (EIB 92-64) or by email to Mia.Johnson@exim.gov, or by mail to Mia L. Johnson, Export-Import Bank of the United States, 811 Vermont Ave. NW, Washington, DC 20571. The application can be reviewed at: https://www.exim.gov/sites/default/files/pub/pending/eib92-64.pdf.

SUPPLEMENTARY INFORMATION: Title and Form Number: EIB 92-64 Application for Exporter Short Term Single Buyer Insurance

OMB Number: 3048-0018.

Type of Review: Renewal.

Need and Use: The information requested enables the applicant to provide EXIM with the information necessary to obtain legislatively required assurance of repayment and fulfills other statutory requirements.

Affected Public: This form affects entities involved in the export of U.S. goods and services.

Annual Number of Respondents: 310.

Estimated Time per Respondent: 1.5 hours.

Annual Burden Hours: 465 hours.

Frequency of Reporting of Use: As needed.

Government Costs:

Reviewing time per year: 465 hours.

Average Wages per Hour: $42.50.

Average Cost per Year: $19,762.5 (time*wages).

Benefits and Overhead: 20%.

Total Government Cost: $23,715.

Bassam Doughman,
IT Specialist.

[FR Doc. 2019-06800 Filed 4-5-19; 8:45 am]

BILLING CODE 6690-01-P